COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products and services previously furnished by such agencies.

DATES: Comments must be received on or before: May 26, 2019.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSNs—Product Names:

MR 11087—Bowl, Collapsible, Pet

MR 11088—Blanket, Pet, Large

MR 11089—Blanket, Pet, Small

MR 11090—Disc, Toy, Dog

Mandatory Source of Supply: Winston-Salem Industries for the Blind, Inc., Winston-Salem, NC

Contracting Activity: Military Resale-Defense Commissary Agency

Services

Service Type: Records digitization

Mandatory for: Ohio Army Reserve National Guard Element, Joint Forces Headquarters, Columbus, Ohio

Mandatory Source of Supply: Coleman Professional Services, Kent, OH

Contracting Activity: DEPT OF THE ARMY, W7NU USPFO ACTIVITY OH ARNG

Service Type: Messenger Service

Mandatory for: U.S. Customs and Border Protection, Area Port St. Thomas, St. Thomas, VI

Mandatory Source of Supply: The Corporate Source, Inc., New York, NY

Contracting Activity: U.S. CUSTOMS AND BORDER PROTECTION, BORDER ENFORCEMENT CTR DIV

Deletions

The following products and services are proposed for deletion from the Procurement List:

Products

NSN—Product Name:

MR 334—Turner, Omelet

Mandatory Source of Supply: Cincinnati Association for the Blind, Cincinnati, OH

Contracting Activity: Military Resale-Defense Commissary Agency

NSN—Product Name:

7510-00-223-6813—Fastener, Paper, 3″ Capacity with Compressor, 2-3/4″ Center

Mandatory Source of Supply: Delaware County Chapter, NYSARC, Inc., Walton, NY

Contracting Activity: GSA/FAS ADMIN SVCS ACQUISITION BR (2, NEW YORK, NY

Services

Service Type: Janitorial/Custodial

Mandatory for: U.S. Army Contracting Command, Sutcovoyo USAR Center, Waterbury, CT

Mandatory Source of Supply: Allied Community Services, Inc., Enfield, CT

Contracting Activity: DEPT OF THE ARMY, W6QK ACC-PICA

Service Type: Food Service Attendant

Mandatory for: West Virginia Air National Guard, Charleston, WV

Contracting Activity: DEPT OF THE AIR FORCE, FA7014 AFDW PK

Service Type: Food Service Attendant

Mandatory for: U.S. Air Force, 183rd Capital Airport ANGB, Aerospace Dining Facility, Bldg. P-48, Springfield, IL

Mandatory Source of Supply: United Cerebral Palsy of the Land of Lincoln, Springfield, IL

Service Type: Mess Attendant Services

Mandatory for: 131st Fighter Wing, ANGU—Lambert Air Base, Bridgeton, MO

Mandatory Source of Supply: Challenge Unlimited, Inc., Alton, IL

Contracting Activity: DEPT OF THE ARMY, W7M6 USPFO ACTIVITY IL ARNG

Service Type: Janitorial/Custodial

Mandatory for: U.S. Army Reserve Center: AMSA 69, Milford, CT

Mandatory Source of Supply: CW Resources, Inc., New Britain, CT

Mandatory for: U.S. Army Reserve Center: 54 Alfred Plourde, Lewiston, ME

Mandatory Source of Supply: Northern New England Employment Services, Portland, ME

Contracting Activity: DEPT OF THE ARMY, W6QM MICC-FT DIX (RC-E)

Service Type: Administrative Services

Mandatory for: Honolulu Property Management Office: Prince Kuhio Federal Building, Honolulu, HI

Mandatory for: GSA, Los Angeles: Federal Protective Services, Los Angeles, CA

Service Type: Janitorial/Elevator Operator

Mandatory for: Southeast Federal Center: Buildings 74, 158, 191, 197 and 202, Washington, DC

Mandatory Source of Supply: Davis Memorial Goodwill Industries, Washington, DC

Contracting Activity: GENERAL SERVICES ADMINISTRATION, FPDS AGENCY COORDINATOR

Service Type: System Furniture Reuse Services

Mandatory for: U.S. Air Force, North American Aerospace Defense Command & U.S. Northern Command, Building 2, Peterson AFB, CO

Mandatory Source of Supply: AspenPointe Employment, Colorado Springs, CO

Contracting Activity: DEPT OF THE AIR FORCE, FA2517 21 CONS LGC

Service Type: Janitorial/Custodial

Mandatory for: U.S. Army Reserve Center: Kirkwood, Wilmington, DE

Mandatory Source of Supply: Opportunity Center, Incorporated, Wilmington, DE

Mandatory for: U.S. Army Reserve Center: 10 Scenic Drive, Washington, PA

Contracting Activity: DEPT OF THE ARMY, W6QM MICC CTR-FT DIX (RC)

Service Type: Janitorial/Custodial

Mandatory for: Landrum Federal Building and U.S. Post Office, Jasper, GA

Mandatory Source of Supply: Goodwill Industries of North Georgia, Inc., Atlanta, GA

Contracting Activity: PUBLIC BUILDINGS SERVICE, ACQUISITION DIVISION/SERVICES BRANCH

Service Type: Janitorial/Custodial

Mandatory for: Old Post Office Building, Washington, DC

Mandatory Source of Supply: Davis Memorial Goodwill Industries, Washington, DC

Contracting Activity: PUBLIC BUILDINGS SERVICE, WPHCB—EAST O&M CONTRACTS BRANCH

Patricia Briscoe,
Deputy Director, Business Operations (Pricing and Information Management).

[FR Doc. 2019-08439 Filed 4-25-19; 8:45 am]

BILLING CODE 6353-01-P